DEPARTMENT OF VETERANS AFFAIRS

Joint Biomedical Laboratory Research and Development and Clinical Science Research and Development Services Scientific Merit Review Board; Notice of Meetings

The Department of Veterans Affairs gives notice under Public Law 92-463 (Federally Advisory Committee Act) that the subcommittees of the Joint Biomedical Laboratory Research and Development and Clinical Science Research and Development Services Scientific Merit Review Board will meet from 8 a.m. to 5 p.m. as indicated below:

Subcommittee for | Date(s) | Location
Nephrology | May 16, 2005 | One Washington Circle.
Respiration | May 16-27, 2005 | Holiday Inn on the Hill.
Immunology—B | May 19, 2005 | The Churchill Hotel.
General Medical Science | May 23, 2005 | Hotel Madera.
Aging and Clinical Geriatrics | May 25, 2005 | Hotel Lombardy.
Neurobiology—A | May 26-27, 2005 | Hotel Rouge.
Neurobiology—D | June 1, 2005 | The Churchill Hotel.
Hematology | June 2, 2005 | Hotel Lombardy.
Mental Hlth & Behav Sciences—A | June 3, 2005 | Hotel Rouge.
Surgery—B | June 6, 2005 | Hotel Lombardy.
Clinical Research Prgm | June 6, 2005 | One Washington Circle.
Gastroenterology | June 9-10, 2005 | Holiday Inn on the Hill.
Infectious Diseases—A | June 10, 2005 | The Churchill Hotel.
Surgery—A | June 13, 2005 | Holiday Inn Central.
Endocrinology—B | June 13, 2005 | Hotel Madera.
Oncology—A | June 13-14, 2005 | Crystal Gateway Marriott.
Infectious Diseases—B | June 14-15, 2005 | The Churchill Hotel.
Immunology—A | June 16, 2005 | Topaz Hotel.
Neurobiology—C | June 16-17, 2005 | Hotel Helix.
Oncology—B | June 16-17, 2005 | Holiday Inn on the Hill.
Cardiovascular Studies—A | June 20, 2005 | Holiday Inn Central.
Endocrinology—A | June 20-21, 2005 | Holiday Inn Central.
Neurobiology—E | June 22, 2005 | Holiday Inn on the Hill.
Cardiovascular Studies—B | June 24, 2005 | Hilton Embassy Row.
Neurobiology—B | June 24, 2005 | Hilton Embassy Row.
Mental Hlth & Behav Sciences—B | June 23-24, 2005 | Hotel Rouge.

The addresses of the hotels are:

Crystal Gateway Marriott, 1700 Jefferson Davis Hwy, Arlington, VA.

Hilton Embassy Row, 2015 Massachusetts Avenue, NW., Washington, DC.

Holiday Inn Central, 1501 Rhode Island Avenue, NW., Washington, DC.

Holiday Inn on the Hill, 415 New Jersey Avenue, NW., Washington, DC.

Hotel Helix, 1430 Rhode Island Avenue, NW., Washington, DC.

Hotel Lombardy, 2019 Pennsylvania Avenue, NW., Washington, DC.

Hotel Madera, 1310 New Hampshire Avenue, NW., Washington, DC.

Hotel Rouge, 1315 16th Street, NW., Washington, DC.

One Washington Circle, One Washington Circle, NW., Washington, DC.

The Churchill Hotel, 1914 Connecticut Avenue, NW., Washington, DC.

Topaz Hotel, 1733 N Street, NW., Washington, DC.

The purpose of the Merit Review Board is to provide advice on the scientific quality, budget, safety and mission relevance of investigator-initiated research proposals submitted for VA merit review consideration. Proposals submitted for review by the Board involve a wide range of medical specialties within the general areas of biomedical, behavioral and clinic science research.

The subcommittee meetings will be open to the public for approximately one hour at the start of each meeting to discuss the general status of the program. The remaining portion of each subcommittee meeting will be closed to the pubic for the review, discussion, and evaluation of initial and renewal projects.

The closed portion of the meetings involves discussion, examination, reference to staff and consultant critiques of research protocols. During this portion of the subcommittee meetings, discussion and recommendations will deal with qualifications of personnel conducting the studies, the disclosure of which would constitute a clearly unwarranted invasion of personal privacy, as well as research information, the premature disclosure of which could significantly frustrate implementation of proposed agency action regarding such research projects.

As provided by subsection 10(d) of Public Law 92-463, as amended, closing portions of these subcommittee meetings is in accordance with 5 U.S.C. 552b(c)(6) and (9)(B). Those who plan to attend or would like to obtain a copy of minutes of the subcommittee meetings and rosters of the members of the subcommittees should contact LeRoy G. Frey, Ph.D., Chief, Program Review (121F), Department of Veterans Affairs, 810 Vermont Avenue, NW., Washington, DC, 20420 at (202) 254-0288.

Dated: April 8, 2005.
By direction of the Secretary.
E. Philip Riggin,
Committee Management Officer.

[FR Doc. 05-7985 Filed 4-20-05; 8:45 am]

BILLING CODE 8320-01-M